DEPARTMENT OF THE INTERIOR

Fish and Wildlife Service

[FWS-R8-ES-2019-N066; FXES11130800000-190-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before June 24, 2019.

ADDRESSES: Document availability and comment submission: Submit requests for copies of the applications and related documents and submit any comments by one of the following methods. All requests and comments should specify the applicant name(s) and application number(s) (e.g., TEXXXXXX).

• Email: permitsr8es@fws.gov.

• U.S. Mail: Daniel Marquez, Endangered Species Program Manager, U.S. Fish and Wildlife Service, Region 8, 2800 Cottage Way, Room W-2606, Sacramento, CA 95825.

FOR FURTHER INFORMATION CONTACT: Daniel Marquez, via phone at 760-431-9440, via email at permitsr8es@fws.gov, or via the Federal Relay Service at 1-800-877-8339 for TTY assistance.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Activity | Type of take | Permit action
TE-86906B | Yosemite National Park, El Portal, California | • Sierra Nevada yellow-legged frog (Rana sierrae) | CA | Educational activities | Capture, handle, and release | Amend.
TE-37598D | Ivan Parr, Oakland, California | • Conservancy fairy shrimp (Branchinecta conservatio), • Longhorn fairy shrimp (Branchinecta longiantenna), | CA | Survey | Capture, handle, release, and collect vouchers | New.
|  | • San Diego fairy shrimp (Branchinecta sandiegonensis),
|  | • Riverside fairy shrimp (Streptocephalus woottoni),
|  | • Vernal pool tadpole shrimp (Lepidurus packardi),
|  | • California tiger salamander (Santa Barbara County and Sonoma County Distinct Population Segments (DPSs)) (Ambystoma californiense)
TE-09375A | Laura Eliassen, Bradley, California | • Conservancy fairy shrimp (Branchinecta conservatio), • Longhorn fairy shrimp (Branchinecta longiantenna), | CA | Survey | Capture, handle, release, and collect vouchers | Renew.
|  | • San Diego fairy shrimp (Branchinecta sandiegonensis),
|  | • Riverside fairy shrimp (Streptocephalus woottoni),
|  | • Vernal pool tadpole shrimp (Lepidurus packardi)
TE-114928 | John Howe, Sacramento, California | • Conservancy fairy shrimp (Branchinecta conservatio), • Longhorn fairy shrimp (Branchinecta longiantenna), | CA | Survey | Capture, handle, release, and collect vouchers | Renew.
|  | • San Diego fairy shrimp (Branchinecta sandiegonensis),
|  | • Riverside fairy shrimp (Streptocephalus woottoni),
|  | • Vernal pool tadpole shrimp (Lepidurus packardi)
TE-37607D | Darcee Guttilla, Templeton, California | • California tiger salamander (Santa Barbara County and Sonoma County Distinct Population Segments (DPSs)) (Ambystoma californiense) | CA | Survey | Capture, handle, and release | New.
TE-37609D | Debi Fanucchi, Oakland, California | • California tiger salamander (Santa Barbara County and Sonoma County Distinct Population Segments (DPSs)) (Ambystoma californiense) | CA | Survey and restore habitat | Capture, handle, release, and habitat restoration | New.
TE-37620D | Angelique Herman, Atascadero, California | • Tipton kangaroo rat (Dipodomys nitratoides nitratoides) • Giant kangaroo rat (Dipodomys ingens) | CA | Survey | Capture, handle, and release | New.
TE-821229 | David Crawford, Camarillo, California | • Unarmored threespine stickleback (Gasterosteus aculeatus williamsoni), | CA | Survey | Capture, handle, and release | Renew.
|  | • Tidewater goby (Eucyclogobius newberryi)
TE-59890B | Olberding Environmental, Inc., Folsom, California | • Conservancy fairy shrimp (Branchinecta conservatio), • Longhorn fairy shrimp (Branchinecta longiantenna), | CA | Survey | Capture, handle, release, and collect vouchers | Renew.
|  | • San Diego fairy shrimp (Branchinecta sandiegonensis),
|  | • Riverside fairy shrimp (Streptocephalus woottoni),
|  | • Vernal pool tadpole shrimp (Lepidurus packardi)
TE-76006B | Zoological Society of San Diego, San Diego, California | • Mountain yellow-legged frog ((northern California DPS) (Rana muscosa)) | CA | Telemetry | Radio tag and track | Amend.
TE-196118 | Julie Niceswanger Hickman, Ventura, California | • Conservancy fairy shrimp (Branchinecta conservatio), • Longhorn fairy shrimp (Branchinecta longiantenna), | CA | Survey | Capture, handle, release, and collect vouchers | Renew/Amend.
|  | • San Diego fairy shrimp (Branchinecta sandiegonensis),
|  | • Riverside fairy shrimp (Streptocephalus woottoni),
|  | • Vernal pool tadpole shrimp (Lepidurus packardi)
TE-37920D | Oregon State University, Corvallis, Oregon | • Lost River sucker (Deltistes luxatus), • Shortnose sucker (Chasmistes brevirostris) | OR | Collect data | Capture, handle, fin clip, measure, insert PIT (passive integrated transponder) tag, and release | New.
TE-13636B | Michaela Hoffman, Grover Beach, California | • Conservancy fairy shrimp (Branchinecta conservatio), • Longhorn fairy shrimp (Branchinecta longiantenna), | CA | Survey | Capture, handle, release, and collect vouchers | Renew.
|  | • San Diego fairy shrimp (Branchinecta sandiegonensis),
|  | • Riverside fairy shrimp (Streptocephalus woottoni),
|  | • Vernal pool tadpole shrimp (Lepidurus packardi)
TE-027427 | Jeff Alvarez, Sacramento, California | • Conservancy fairy shrimp (Branchinecta conservatio), • Longhorn fairy shrimp (Branchinecta longiantenna), | CA | Survey, collect tissue, and conduct educational workshops | Capture, handle, release, collect vouchers, and collect tissue | Renew.
|  | • San Diego fairy shrimp (Branchinecta sandiegonensis),
|  | • Riverside fairy shrimp (Streptocephalus woottoni),
|  | • Vernal pool tadpole shrimp (Lepidurus packardi),
|  | • California tiger salamander (Santa Barbara County and Sonoma County Distinct Population Segments (DPSs)) (Ambystoma californiense)

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Peter Erickson,
Acting Chief of Ecological Services, Pacific Southwest Region, Sacramento, California.

[FR Doc. 2019-10825 Filed 5-22-19; 8:45 am]

BILLING CODE 4333-15-P